DEPARTMENT OF HEALTH AND HUMAN SERVICES

National Institutes of Health

Center for Scientific Review; Amended Notice of Meeting

Notice is hereby given of a change in the meeting of the Center for Scientific Review Special Emphasis Panel, June 28, 2004, 1 p.m. to June 28, 2004, 2:30 p.m., Holiday Inn Georgetown, 2101 Wisconsin Avenue, NW., Washington, DC 20007 which was published in the Federal Register on June 10, 2004, 69 FR 32600-32604.

The meeting will be held June 29, 2004 from 8:30 a.m. to 1 p.m. The location remains the same. The meeting is closed to the public.

Dated: June 22, 2004.
LaVerne Y. Stringfield,
Director, Office of Federal Advisory Committee Policy.

[FR Doc. 04-14736 Filed 6-29-04; 8:45 am]

BILLING CODE 4140-01-M